DEPARTMENT OF COMMERCE

Foreign-Trade Zones Board

[B-76-2013]

Foreign-Trade Zone (FTZ) 247—Erie, Pennsylvania, Notification of Proposed Production Activity, GE Transportation (Locomotives, Off-Highway Vehicles and Motors/Engines), Lawrence Park and Grove City, Pennsylvania

GE Transportation submitted a notification of proposed production activity to the FTZ Board for its facilities in Lawrence Park and Grove City, Pennsylvania within FTZ 247. The notification conforming to the requirements of the regulations of the FTZ Board (15 CFR 400.22) was received on July 18, 2013.

Separate applications for subzone status at the GE Transportation facilities are currently pending (Dockets S-69-2013 and S-70-2013) under Section 400.31 of the Board's regulations. The facilities are used for the manufacturing of locomotives; off-highway vehicle wheels, inverters and brake systems; components, spare parts and subassemblies for locomotives and off-highway vehicles; drill equipment; marine equipment; stationary equipment; diesel locomotive engines; engine turbo chargers; power assemblies; other engine assemblies; and, engine components and spare parts. Pursuant to 15 CFR 400.14(b), FTZ activity would be limited to the specific foreign-status materials and components and specific finished products described in the submitted notification (as described below) and subsequently authorized by the FTZ Board.

Production under FTZ procedures could exempt GE Transportation from customs duty payments on the foreign status components used in export production. On its domestic sales, GE Transportation would be able to choose the duty rates during customs entry procedures that apply to: pads; sand fill assemblies; hoses; couplings; arm rest assemblies; sleeves; tube assemblies; pipe assemblies; caps; elbow assemblies; flange assemblies; coupling assemblies; connector assemblies; adapter assemblies; chain assemblies; lock pin assemblies; washer assemblies; adapters; washer plates; retainers; retainer rings; clevis assemblies; adapter plates; plates; cleats; channels; clamps; sheets; angles; covers; connection straps; valve assemblies; cable assemblies; clear scraper I-beams; barrel bolt assemblies; hinge assemblies; keepers; angle assemblies; base assemblies; baffles; brackets; latch assemblies; supports; blocks; bracket assemblies; holders; conduit assemblies; diesel engines; engines; piping; air inlets; crankcase assemblies; cylinder head assemblies; doors; orifices; master rod assemblies; piston rod assemblies; piston crowns; piston pin assemblies; power assemblies; shaft assemblies; strongbacks; water header assemblies; nozzle rings; motors; lube oil pumps; water pump assemblies; pipes; support assemblies; air foil fans; blower motor assemblies; fan and motor assemblies; gear units; radial fans; rotors; compressor assemblies; turbo assemblies; stators and frames; air ducts; barrels; blowers; casing; compressors; diffusers; flanges; hubs; impellers; oil drains; rotor assemblies; shroud assemblies; turbine assemblies; shelf assemblies; bonnet assemblies; core lubes; shell assemblies; cover assemblies; strainer assemblies; oil filter assemblies; air filter assemblies; screen assemblies; filter assemblies; breather assemblies; filter box assemblies; sand trap assemblies; valve stems; brake and check valve assemblies; mag valve assemblies; panel assemblies; pipe assemblies; valve bodies; bearing housings; bearing caps; arm shafts; cam shafts; shafts; crankshafts; drive shafts; roller assemblies; bearing assemblies; gear box assemblies; flywheels; coupling assemblies; drive end assemblies; fans; adapter rings; collars; flingers; gears; pinions; rings; auxiliary generators; blower motors; motorized wheels; AC drills; alternators; armatures; bus rings; armature coils; coils; commutators; dynamic brakes; exciter coils; frame barrels; frame heads; magnetic frames; rewind kits; retainer plates; seal rings; stator assemblies; wheel hubs; retarders; panels; commutator coils; field coils; stator frame barrels; exciters; strip heaters; cards; antenna supports; horn assemblies; capacitor assemblies; resistor assemblies; snubber assemblies; potentiometer assemblies; braking potentiometer assemblies; resistors; potentiometers; EFM mod kits; connector boxes; terminals; contactors; brake/switch assemblies; contactor assemblies; relays; braking switches; pressure switches; lamp assemblies; light assemblies; connection assemblies; receptacles; boxes; connector rings; stator kits; PC cards; box assemblies; control groups; controllers; module lists; reverser switches; auxiliary groups; case weldments; auxiliary weldments; arc chute assemblies; weldments; barrier assemblies; coil assemblies; door assemblies; duct assemblies; dynamic brake assemblies; finger assemblies; interlock assemblies; tape rails; diodes; speed sensors; bearing clamps; sensor assemblies; cable assemblies; antenna cables; harness assemblies; motor lead assemblies; wire lists; harnesses; jumpers; connector straps; brush holder assemblies; insulations; spacer assemblies; resistor assemblies; locomotives; auxiliary cable assemblies; truck assemblies; axles; shims; sand bracket assemblies; wear plates; air rack welds; tie bar assemblies; gussets; manifold assemblies; spacers; air duct assemblies; auxiliary cab assemblies; battery box assemblies; blower assemblies; cap assemblies; clamp bar assemblies; cleat supports; console assemblies; door panel assemblies; engine cab assemblies; floor assemblies; frame assemblies; gutter assemblies; handrails; heat shield assemblies; hood assemblies; intercoolers; latches; light fab lists; linings; mounting plate assemblies; mounting rings; operator cab assemblies; posts; radiator cab lists; rain guards; sand boxes; seal strips; side sheets; skirts; snubbers; step assemblies; stiffeners; straps; strips; traction pins; walkway assemblies; water connectors; end plates; air turners; bulkheads; dams; deck plates; pans; air diffusers; barrels; torque tubes; transmission assemblies; wheel hub assemblies; ring ends; temperature panels; sensor box assemblies; air gauges; transducer assemblies; oil gauge pipes; cushion assemblies; arm rest assemblies; foot rest assemblies; top plates; and, light box assemblies (duty rate ranges from duty-free to 12.8%) for the foreign status inputs noted below. Customs duties also could possibly be deferred or reduced on foreign status production equipment.

The components and materials sourced from abroad include: hoses; hose assemblies; fittings; tapes; decals; labels; indicator plates; toilets; USB port plugs; flexible conduits; connectors; elbows; reducers; plastic pipes; O-ring flanges; O-rings; seals; spacers; studs; plastic washers; gaskets; grommets; T-fittings; Y-fittings; stencils; lenses; air ducts; rubber hoses; locomotive parts; rubber tubes; fuel inlets; fuel outlets; vents; rubber fuel hoses; starter motors; rubber cleats; gaskets; boots; neoprene; rubber seals; air duct boots; pads; bushings; flexible couplers; nozzles; sidebearers; cable sleeves; support tubes; cable and motor bushings; cable cleats; couplers; pipe holders; bumpers; pump inlets; pump outlets; rubber pads; mounting pads; nylon bags; tags; locomotive covers; nylon covers; mica insulation/tape; fiberglass tape; insulation; windows; windshields; unframed windows; mirrors; shroud fans; brazing sticks; steel sheet; plate steel; forged rings; pipes; steel bar; tube alloy steel; pipe fittings; flanges; Victaulic pipes; steel non-alloy pipes; pipe assemblies; steel alloy pipes; cast iron plugs; pipe plugs; plugs; adapters; cast iron fittings; stainless steel fittings; flange assemblies; pipe flanges; steel flanges; couplings; coupling caps; cooling couplings; iron fittings; sleeves; nipples; banjo fittings; waste receptacles; water tanks; wrecking cables; water tank assemblies; fuse holders; steel ropes; welded chain links; chains; screws; bolts; capscrews; socket head screws; fasteners; nuts; plates; weld nuts; locknuts; washers; retaining rings; pins; shafts; threaded pins; locking plates; cotter pins; locking rings; rings; keys; leaf springs; helical spring steel; spring coils; springs; spring valves; alternator springs; toilet water tanks; clamps; clevis; hose couplings; steel supports; cover assemblies; clamp assemblies; plastic elbows; bronze thrust washers; copper washers; sealing washers; motor end ring cables; copper sealing rings; nickel alloy hex head bolts; aluminum alloy tubes and elbows; aluminum flanges; aluminum fittings and adapters; door lock cylinders; lock assemblies; side bolts; hinges; mounting flanges; casting; bracket assemblies; support assemblies; brackets; blocks; mounting brackets; door latches; grab handles; handrails; latches; latch assemblies; locking microwave oven bases; tap blocks; bracket assemblies; bracket weldments; bracket castings; flag racks; tissue holders; towel holders; staples; rivets; brazing alloys; diesel engines; frame assemblies; air inlets; filter box air nozzles; end rings; retainer rings; piston rings; fuel lines; exhaust stack outlets; push rods; guide valves; roller pin assemblies; covers; exhaust manifolds; cylinder liners; manifolds; liners; oil pans; connecting rods; piston pins; forgings; oil fill assemblies; cylinder heads; bellows; jacket cylinders; crank cases; water returns; valves; spring seats; clamp rings; valve guides; piston crowns; piston skirts; shrouds; cylinder head gaskets; strongbacks; rockers; master rods; exhaust valves; caps; axles; rocker arms; inlets; forward end castings; fuel lines; jumper lines; pumps; outlet elbows; jumper adapter; inserts; cam followers; fuel pumps; exhaust elbows; piston ring sets; water pumps; wind hydraulic system manifolds; hose fittings; oil pumps; hydraulic system manifolds; housings; impellers; casings; oil pump manifolds; steel rings back plates; adjustment rings; oil pump elbows; water assemblies; water pump housings; water discharge assemblies; blower assemblies; axial fan assemblies; air to air assemblies; fans; blowers; intercooler fans and motor assemblies; air compressors; air inlet blowers; fan supports; fan guards; housing assemblies; hubs; inlet blowers; turbo tubes; turbochargers; transition sections; inlet flange assemblies; seal rings; discs; turbocharger air inlets; cooling tubes; seal blowers; diffusers; inlet flanges; rotor shafts; air inlet blower castings/casings; shroud castings; intercooler assemblies; oil coolers; contravanes; blower inlets; fan shroud supports; hub fans; HVAC units; screen guards; refrigerators; fuel heaters; heat exchangers; exhaust gas coolers; warming ovens; baffles; bonnet lube oil coolers; tubes; oil filters; fuel filters; oil filter assemblies; fuel fill assemblies; fuel filter assemblies; paper inserts; air intake filter boxes; element assemblies; screen assemblies; air intake filter elements; air filters; air cleaners; air filter assemblies; screen filters; filter box assemblies; guards; basket filter assemblies; air filter covers; canister assemblies; filter oil weldments; coalescers; fire extinguishers; fire suppression nozzle fittings; fire suppression nozzles; snow plow assemblies; brake valve assemblies; controllers; pneumatic systems; check valves; relief valves; wiper needle valves; cut out cocks; manual valves; brake valves; top shutters; cut off cocks; shutter assemblies; univalves; injectors; pressure valves; drain valves; fuel injectors; cock valve handles; fuel injector nozzles; bearings; tapered roller bearings; cylindrical roller bearings; cam roller skirts; bearing caps; bearing spacers; frame heads; frame head motors; crankcase thrust rings; camshafts; driveshaft fans; crankcases; journal camshafts; thrust collars; transmission parts; journal bearings; journals; gear boxes; axle bearing assembly kits; bearing housings; carriers; gears; generator gearboxes; flywheel flanges; conical sleeves; coupling shafts; gear cases; gear covers; connecting rod bearings; camshaft sections; drive shaft couplings; carrier assemblies; gear show assemblies; gear cases; bridge caps; collars; flingers; ductile iron gaskets; pinion gears; planet gears; spur gears; brush holders; pinion shafts; ring gears; spiders; bolting rings; crank assemblies; support paddles; pump rings; steel gaskets; turbine end seals; traction motors; DC traction motors; fuel filter motors; AC motors; blower motors; AC generators; alternators; AC generator sets; air baffle DC motors; air deflectors; armature coils; frames; armature shafts; brush holder assemblies; fab frame assemblies; field coil assemblies; frame head assemblies; axle caps; mounting bars; barrels; bobbins; retarder brackets; traction motor cases; case weldments; stator coils; commutators; exciter coils; end plates; equalizer coils; field coils; coil frames; air outlet housings; air inlet housings; louver assemblies; mica cones; mounting blocks; poles; commutator shells; stators; supports; U-pieces; U-tubes; wear plates; balance weights; weldments; rotor yokes; bail caps; ties; locks; ballast assemblies; transformers; boards; cards; battery chargers; converters; inverters; power supplies; radio charger assemblies; power dividers; ABP panels; inductor irons; 3-phase reactors; inverter cover weldments; heat sink power supply modules; heat sinks; voltage and current monitoring; coils; coil contactors; batteries; battery acid; lead acid batteries; rotor assemblies; spider castings; ring forgings; tie rings; stator hubs; heaters; hot plates; antennas; Ethernet switch boards; switch boards; modems; radios; panels; modules; antenna networks; antenna satellite phones; pick-up coil assemblies; receiver connection boxes; arcnet equipment lockers; serial box weldments; microphones; speakers; operator handsets; radio handsets; antenna diplexer; transceiver radio; satellite phone; receiver unit; cab radio; GPS receiver; antenna mount; alarm indicator; alarm panel; LED display; display module; indicator panel; lamp repeater panel; alarm; event recorder; LED headlight; horn; current indicator; LED tail light; displat; LED module; silicone keypads; capacitors; aluminum electrolytic capacitor; fixed paper dialectric capacitor; fixed capacitor; plastic capacitor cover; resistors; dynamic brake resistor grids; resistor modules; resistor panels; shunts; resistor tubes; potentiometer; bases; stop kits; switch knives; bus bar assemblies; transfer switch assemblies; bus bars; switch assemblies; switches; fuses; circuit breakers; current stabilizers; contactors; relays; pushbuttons; lifting lugs; receptacles; rotor rings; inverter sockets; connection strips; connector kits; copper bars; junction boxes; terminal boxes; connection rings; terminals; diodes; dynamic brake assembly kits; backplane assemblies; backplane panels; cabinets; control boards; wire boards; control radio heads; master controllers; display panels; engine control unit panels; printed wire board assemblies; fire control stations; integrated digital interface operator systems; control units; electric equipment lockers; control group assemblies; panel assemblies; integrated gate driver bi-polar transistors (IGBT); panel covers; case weldments; control weldments; inverter weldments; alcove frame assemblies; angles; doors; armatures; arc chute assemblies; blowout coil assemblies; cleat assemblies; door assemblies; PWB assemblies; channels; cleat cables; PCB input/output/control/CPU; tape rails; roofs; piston rods; voltage attenuator; frequency input boards; remote digital output module; consoles; rails; hinge blocks; enclosures; indicator lenses; shields; plate assemblies; module inputs; module outputs; headlights; rectifiers; suppression modules; gate drivers; thyristors; light assemblies; IGBT housings; trays; erasable programmable read-only memory; flash buttons; pulse generator axles; auxiliary power units; tachometers; speed sensors; event recorders; input/output modules; reactors; engine control units; automatic brake manipulator units; transponders; oil mist detector systems; data logger; winding wires; cables; cable harnesses; jumper cables; speedometers; harnesses; cabling trays; cable assemblies; copper bus bars; copper cables; carbon brushes; insulators; insulated U-piece fittings; trucks; truck assemblies; equalizer arms; A-frame assemblies; journal box adapters; bell crank assemblies; bolster assemblies; crank chain assemblies; pilot guide assemblies; U-tube assemblies; truck frame assemblies; wing plate shear pad assemblies; tees; axle bearings; bogies; axle boxes; journal boxes; traction cap assemblies; center links; center pins; cleat collars; dampers; steerable truck links; suspension mounts; pedestal liners; cover plates; clamping pins; plungers; retainer bushings; sand brackets; shear pads; hydraulic shocks; suspension links; tie rod wheelsets; traction links; wheel axle tubes; wheels; wheelset retaining blocks; yaw dampers; seat springs; slack adjusters; brake racks; choke blocks; brake cylinder mounts; brake—parking/air/lever/service; air brake guard; hanger brake; air brake hook; brake rigging; air brake manifolds; air brake reservoirs; brake shoes; air brake tubes; tread brake units; brake lever wear pads; air brake weldments; hand brakes; hand brake mounts; uncoupling lever bracket; buffers; machined castings; uncoupling levers; automatic diesel fueling adapters; anticlimbers; reservoir vacuum arrangements; ash trays; rad rack assemblies; cab assemblies; cab bracket assemblies; operator cabs; channel assemblies; end sheet assemblies; sand fill assemblies; screen frame assemblies; rain guard assemblies; hose assemblies; rad cab assemblies; sand bracket assemblies; return tube assemblies; spouts; step plate assemblies; ridge support beams; angle bases; steel bases; bell cranks; evo cabs; fuel drain bosses; rad cab filter boxes; auxiliary cabs; radiator cabs; caps; cow catchers; steel clips; air brake compartments; sinks; corner sheets; snow dams; obstacle deflectors; fuel tank drain plugs; toilet enclosers; end sheets; engine cabs; floors; handrail feet; foot rests; steel feet; cab frames; posts; screens; gussets; handles; headliners; lift hatches; first aid kit holders; paper cup holders; fuel tank inserts; woven fiberglass insulation; inverter roofs; stepladders; shock brackets; locking bars; suspension links; lifting lugs; bolster mounts; mounts; mufflers; main cabs; racks; radiators; reservoirs; retention tanks; ring covers; sheets; shocks; skid weldments; sliding windows; steps; door stops; seal strips; sun visors; fuel tanks; tool boxes; helper's consoles; traction pins; tie bars; fuel accumulators; intercoolers; oil pans; exhaust tees; damper mounts; main frames; connections; Teflon® hoses; support brackets; torque tube barrels; retarders; brake retarders; castings; planet pinion gears; housings; pinions; wheel hubs; carrier castings; steel doors; drive shaft plugs; torque tube rings; optical pulse generators; digital tachometers; temperature probes; fuel temperature sensors; oil temperature sensors; water temperature sensors; air temperature sensors; exhaust gas temperature sensors; fire sensors; temperature sensor kits; fuel sensors; sensors; water sensors; thermowell couplings; electronic fuel monitor sensors; oil pressure gauges; air pressure sensors; transducers; gauge panels; fuel gauge covers; bridge panels; speed indicators; axle generators; isolation amplifier panels; ground current measuring monitors; voltage sensors; printed wire boards; test train units; camshaft timing rings; thermostat remotes; input/output controls; digital voltage regulators; regulators; speed controls; current stabilizers; hour meters; seats; seat foot rests; pivotal supports; seat pads; headlight assemblies; LED lights; and, fixture strobe lights (duty rate ranges from duty-free to 20%). The request indicates that inputs classified under HTSUS Subheadings 4202.92, 5911.90 and 6306.12 will be admitted to the zone in privileged foreign status (19 CFR 146.41), thereby precluding inverted tariff benefits on such items.

Public comment is invited from interested parties. Submissions shall be addressed to the Board's Executive Secretary at the address below. The closing period for their receipt is September 9, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: July 25, 2013.
Andrew McGilvray,
Executive Secretary.

[FR Doc. 2013-18433 Filed 7-30-13; 8:45 am]

BILLING CODE 3510-DS-P